DEPARTMENT OF THE INTERIOR

Fish and Wildlife Service

[FWS-R5-ES-2024-0039; FXES11140500000-245-FF05E00000]

Proposed Multi-Bat Species General Conservation Plan for Routine Development Projects in New York, Pennsylvania, and West Virginia; Draft Environmental Assessment

AGENCY: Fish and Wildlife Service, Interior.

ACTION: Notice of availability; request for comments.

SUMMARY: We, the U.S. Fish and Wildlife Service (Service), announce the availability for public comment of a proposed general conservation plan (GCP), as well as an associated draft environmental assessment, for routine development projects in New York, Pennsylvania, and West Virginia that impact the federally listed Indiana bat (Myotis sodalis) and/or northern long-eared bat (Myotis septentrionalis), and/or the proposed to be listed tricolored bat (Perimyotis subflavus). We invite comments from the public and local, State, Tribal, and Federal agencies.

DATES: We will accept comments received or postmarked on or before November 29, 2024. Comments submitted online at https://www.regulations.gov (see ADDRESSES) must be received by 11:59 p.m. eastern time on November 29, 2024.

ADDRESSES:

Obtaining documents: The documents this notice announces, as well as any comments and other materials that we receive, will be available for public inspection online in Docket No. FWS-R5-ES-2024-0039 at https://www.regulations.gov.

Submitting comments: If you wish to submit comments on any of the documents, you may do so in writing by one of the following methods:

• Online: https://www.regulations.gov. Follow the instructions for submitting comments on Docket No. FWS-R5-ES-2024-0039.

• U.S. Mail: Public Comments Processing; Attn: Docket No. FWS-R5-ES-2024-0039; U.S. Fish and Wildlife Service Headquarters, MS: PRB/3W; 5275 Leesburg Pike, Falls Church, VA 22041-3803.

We will post all comments on https://www.regulations.gov. This generally means that we will post any personal information you provide us (see Public Availability of Comments under SUPPLEMENTARY INFORMATION for more information).

FOR FURTHER INFORMATION CONTACT: Eric Tattersall, by telephone at 413-253-8630. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), announce the availability of a proposed general conservation plan (GCP), as well as an associated draft environmental assessment (EA), for routine development projects in New York, Pennsylvania, and West Virginia that may impact Indiana bat (Myotis sodalis), northern long-eared bat (Myotis septentrionalis), and/or tricolored bat (Perimyotis subflavus). We invite comments from the public and local, State, Tribal, and Federal agencies.

We developed and now make available the GCP to provide a streamlined mechanism to assist future individual applicants engaged in certain otherwise lawful routine development projects to meet statutory and regulatory requirements of a habitat conservation plan for issuance of an incidental take permit under section 10(a)(1)(B) of the Endangered Species Act of 1973, as amended (ESA; 16 U.S.C. 1531 et seq.), while promoting conservation of the Indiana bat (Myotis sodalis), the northern long-eared bat (Myotis septentrionalis), and the tricolored bat (Perimyotis subflavus). The GCP includes measures to minimize and mitigate impacts to the covered species. Permits issued under the GCP would authorize incidental take of the covered species for up to 15 years after the GCP becomes effective. We developed the GCP in accordance with section 10(a)(2)(A) of the ESA (16 U.S.C. 1531 et seq.).

We prepared the draft EA in accordance with the National Environmental Policy Act of 1969 (NEPA; 42 U.S.C. 4321 et seq.) to evaluate the potential effects to the natural and human environment resulting from issuing permits under the GCP.

Background

Section 9 of the ESA and its implementing regulations prohibit the “take” of animal species listed as endangered or threatened. Take is defined under the ESA as to “harass, harm, pursue, hunt, shoot, wound, kill, trap, capture, or collect, or to attempt to engage in any such conduct” (16 U.S.C. 1532). However, under section 10(a)(1)(B) of the ESA, we may issue permits to authorize take of listed species that is incidental to, and not the purpose of, carrying out an otherwise lawful activity (i.e., “incidental taking” (50 CFR 17.3)). Regulations governing permits for the incidental taking of endangered and threatened species, respectively, are found in the Code of Federal Regulations at 50 CFR 17.22 and 50 CFR 17.32.

Proposed Action

The proposed action is approval of the GCP that has been prepared by the Service in accordance with section 10(a)(2)(A) of the ESA to provide a more efficient and standardized mechanism for proponents engaged in certain otherwise lawful routine development projects on non-Federal lands. The proposed GCP describes the routine development activities for which the plan establishes associated conservation measures an applicant would agree to undertake first to avoid and then to minimize and mitigate for the impacts of the incidental take of the listed (and proposed) bat species to the maximum extent practicable, and to ensure that incidental take will not appreciably reduce the likelihood of the survival and recovery of these species in the wild. The GCP would allow private individuals, local and State agencies, and other non-Federal entities to meet the statutory and regulatory requirements of the ESA by applying for a permit and complying with the requirements of the GCP, including all applicable avoidance, minimization, and mitigation actions. We propose that applications for projects falling within the GCP and which adopt all applicable plan requirements would meet the permit issuance criteria as required by section 10(a)(2)(B) of the ESA, thereby enabling the establishment of a programmatic permitting and conservation process to address a defined suite of project types impacting defined listed species within a defined planning area. The GCP would be available for adoption and use by eligible applicants for a period of 10 years. Individual permits issued through the streamlined GCP process may be authorized for a term of up to 5 years. Therefore, permittees would have up to 5 years to complete their projects, even if the permit is issued in the final year (i.e., year 10) of the GCP. If a project proponent is unable to complete their covered activities during the duration of their permit, they can request a permit renewal (for up to 5 additional years) from the Service.

Covered Species

The proposed GCP would cover the bat species in table 1.

Table 1—Bat Species Covered in the Proposed General Conservation Plan
Common name | Scientific name | Federal listing status
Indiana bat | Myotis sodalis | Endangered.
Northern long-eared bat | Myotis septentrionalis | Endangered.
Tricolored bat | Perimyotis subflavus | Proposed endangered.

National Environmental Policy Act Compliance

The draft EA provides the required NEPA documentation for the proposed Federal action (approval of a conservation plan and subsequent issuance of permits pursuant to section 10(a)(1)(B) of the ESA), providing information on the environmental baseline and a discussion of impacts to the human and natural environment that may occur as a result of implementation of the GCP. Importantly, the scope of the EA is limited to evaluation of the proposed GCP as a mechanism to standardize permit issuance for covered activities; this EA neither evaluates nor results in approval of the routine development activities. Land use approval(s) for individual projects would continue to be the responsibility of the local or State agency(ies) that have appropriate jurisdiction(s) over individual projects. A section 10(a)(1)(B) incidental take permit issued by the Service does not authorize the covered activities themselves; rather, it authorizes only the take of covered species resulting from those activities.

We are also considering a no-action alternative to the proposed action in the EA. Under this no-action alternative, the Service would not approve the proposed GCP as a standardized mechanism for compliance with section 10 of the ESA. Project proponents planning to conduct otherwise lawful routine development activities involving potential impacts to Indiana bat, northern long-eared bat, and/or tricolored bat would continue to develop project-specific HCPs in order to apply for and obtain permits authorizing those species to be taken.

Public Availability of Comments

All comments received, including names and addresses, will become part of the administrative record associated with this action. If you submit a comment via https://www.regulations.gov, your entire comment, including any personal identifying information such as your address, phone number, and email address, will be posted on the website.

If you submit a hardcopy comment that includes personal identifying information, you may request at the top of your document that we withhold this information from public review. However, we cannot guarantee that we will be able to do so. We will post all hardcopy comments on https://www.regulations.gov.

Next Steps

The Service will evaluate the comments received to determine whether the GCP meets the requirements of section 10(a) of the ESA (16 U.S.C. 1531 et seq.). We will also conduct an intra-Service consultation pursuant to section 7 of the ESA to evaluate the effects of the proposed take. After considering the above findings, we will determine whether the permit issuance criteria of section 10(a)(l)(B) of the ESA have been met. If met, the Service will implement the GCP and issue ITPs to qualified applicants that agree to comply with all avoidance, minimization, and mitigation actions that apply to their proposed projects.

Authority

We provide this notice under section 10(c) of the ESA (16 U.S.C. 1531 et seq.) and its implementing regulations (50 CFR 17.22 and 17.32) and NEPA (42 U.S.C. 4321 et seq.) and its implementing regulations (40 CFR 1500-1508 and 43 CFR 46).

Sharon Marino,
Assistant Regional Director, Ecological Services, Northeast Region.

[FR Doc. 2024-25089 Filed 10-28-24; 8:45 am]

BILLING CODE 4333-15-P